FEDERAL MARITIME COMMISSION

[Docket No. 23-06]

Coast Citrus Distributors d/b/a Olympic Fruit & Vegetable, Amazon Produce Network, LLC, Refin Tropicals, S.A., JW Fresh, S.A., Sembri´os de Exportacio´n Sembriexport, S.A., and Bresson S.A., Complainants v. Network Shipping Ltd., Inc., Respondent;

Served: August 3, 2023

Notice of Filing of Complaint and Assignment; Served: August 3, 2023

Notice is given that a complaint has been filed with the Federal Maritime Commission (“Commission”) by Coast Citrus Distributors d/b/a Olympic Fruit & Vegetable, Amazon Produce Network, LLC, Refin Tropicals, S.A., JW Fresh, S.A., Sembríos de Exportación Sembriexport, S.A., and Bresson S.A. (collectively, the “Complainants”) against Network Shipping Ltd., Inc. (“Respondent”). Complainants state that the Federal Maritime Commission has jurisdiction over the allegations asserted under the Shipping Act of 1984, as amended, 46 U.S.C. chs. 411-413 (the “Shipping Act”), and that this complaint is being filed pursuant to 46 U.S.C. 41301 seeking reparations for injuries resulting from violations of 46 U.S.C. 41102(c) and 41104(a).

Complainant, Coast Citrus Distributors d/b/a Olympic Fruit & Vegetable states that it is a “shipper” within the meaning of 46 U.S.C. 40102(23)(C) and a corporation organized under the laws of the State of California with a principal place of business in San Diego, California. Complainant, Amazon Produce Network, LLC states that it is a “shipper” within the meaning of 46 U.S.C. 40102(23)(C) and a limited liability company organized under the laws of the State of Delaware with a principal place of business in Evanston, Illinois. Complainant, Refin Tropicals, S.A. states that it is a “shipper” within the meaning of 46 U.S.C. 40102(23)(C) and is a limited liability company organized under the laws of the Republic of Ecuador with a principal place of business in Samboróndon, Ecuador. Complainant, JW Fresh, S.A. states that it is a “shipper” within the meaning of 46 U.S.C. 40102(23) and is a limited liability company organized under the laws of the Republic of Ecuador with a principal place of business in Guayaquil, Ecuador. Complainant, Sembríos de Exportación Sembriexport, S.A. states that it is a “shipper” within the meaning of 46 U.S.C. 40102(23) and is a limited liability company organized under the laws of the Republic of Ecuador with a principal place of business in Guayaquil, Ecuador. Complainant, Bresson S.A. states that it is a “shipper” within the meaning of 46 U.S.C. 40102(23) and is a limited liability company organized under the laws of the Republic of Ecuador with a principal place of business in Guayaquil, Guayas Ecuador.

Complainant identifies Respondent as a “common carrier” within the meaning of 46 U.S.C. 40102(7) and a company organized under the laws of Bermuda with a principal place of business in Miami, Florida.

Complainant alleges that Respondent violated 46 U.S.C. 41102(c) and 41104(a) regarding a failure to establish, observe, and enforce just and reasonable practices relating to receiving, handling, storing, and delivering property, directly or indirectly engaging in unfair or unjustly discriminatory practices with respect to cargo space accommodation or other facilities, and giving undue or unreasonable preference or advantage or imposing undue or unreasonable prejudice or disadvantage. Complainant alleges these violations arose from a failure to timely provide chassis due to limited availability resulting from the preferential treatment of certain containers that led to transportation delays and the spoilation of fresh produce.

An answer to the complaint must be filed with the Commission within twenty-five (25) days after the date of service.

The full text of the complaint can be found in the Commission's electronic Reading Room at https://www2.fmc.gov/readingroom/proceeding/23-06/. This proceeding has been assigned to the Office of Administrative Law Judges. The initial decision of the presiding judge shall be issued by August 5, 2024, and the final decision of the Commission shall be issued by February 17, 2025.

William Cody,
Secretary.

[FR Doc. 2023-17015 Filed 8-8-23; 8:45 am]

BILLING CODE 6730-02-P